DEPARTMENT OF THE INTERIOR

Fish and Wildlife Service

Notice of Intent To Prepare a Comprehensive Plan for Crab Orchard National Wildlife Refuge in Williamson, Jackson and Union Counties, IL

ACTION: Notice of intent.

SUMMARY: This notice advises the public that the U.S. Fish and Wildlife Service (Service) intends to gather information necessary to prepare a comprehensive conservation plan and an environmental assessment for the Crab Orchard National Wildlife Refuge in Williamson, Jackson and Union counties, Illinois. The Service is furnishing this notice in compliance with Service comprehensive conservation plan policy and the National Environmental Policy Act, and implementing regulations to achieve the following:

(1) Advise other agencies and the public of our intentions, and

(2) Obtain suggestions and information on the scope of issues, opportunities, and concerns for inclusion in the environmental documents.

DATES: The Service will hold public scoping meetings in Spring 2000, and additional public meetings will be held to review the draft comprehensive conservation plan. It is anticipated that the draft plan will be available for public review by November 2000. An announcement of availability of the draft plan will appear in the Federal Register and on the Crab Orchard Refuge Comprehensive Conservation Plan web page (www.fws.gov/r3pao/planning/cotop.htm).

ADDRESSES: Address comments and requests for more information to: Refuge Manager, Crab Orchard National Wildlife Refuge, 8588 Route 148, Marion, Illinois 62959; or E-mail: conwr-ccp@fws.gov

SUPPLEMENTARY INFORMATION: It is the policy of the Service to have all lands within the National Wildlife Refuge System managed in accordance with an approved comprehensive conservation plan. The plan guides management decisions and identifies refuge goals, objectives and strategies for achieving refuge purposes. Public input into this planning process is encouraged. The plan will provide other agencies and the public with a clear understanding of the desired conditions of the refuge and how the Service will implement management strategies. Some of the issues to be addressed in the plan include the including:

(a) Habitat management;

(b) Public use management;

(c) Wildlife population management;

(d) Wilderness management;

(e) Industrial facilities management; and

(f) Cultural resource identification and protection.

The environmental assessment will include several alternatives that address the issues and management strategies with these topics.

Crab Orchard National Wildlife Refuge was established on August 5, 1947, by Public Law 80-361. This Act of Congress transferred certain Federal lands acquired in connection with the Crab Orchard Creek project and the Illinois Ordnance Plant to the Secretary of the Interior. This legislation mandated these lands be administered by the Secretary through the Service “for the conservation of wildlife, and for the development of the agricultural, recreational, industrial, and related purposes specified in this Act.”

The 43,890-acre refuge contains three large manmade lakes totaling 8,700 acres; 21,000 acres of forestland, 5,000 acres of cropland, and 2,000 acres of grassland. The refuge supports an extensive variety of plant and animal species, hosts 1.2 million recreational visitors per year, provides facilities for industrial tenants who generate $100 million in annual revenue, and sponsors cooperative farmers and permittee graziers. The 4,050-Crab Orchard Wilderness, the first wilderness area designed in the State of Illinois, is within the refuge.

Dated: February 15, 2000.
William F. Hartwig,
Regional Director.

[FR Doc. 00-4330 Filed 2-23-00; 8:45 am]

BILLING CODE 4310-55-M